DEPARTMENT OF COMMERCE

National Oceanic and Atmospheric Administration

RIN 0648-XM63

Magnuson-Stevens Act Provisions; General Provisions for Domestic Fisheries; Application for Exempted Fishing Permit

AGENCY: National Marine Fisheries Service (NMFS), National Oceanic and Atmospheric Administration (NOAA), Commerce.

ACTION: Notification of a proposal to conduct exempted fishing; request for comments.

SUMMARY: The Assistant Regional Administrator for Sustainable Fisheries, Northeast Region, NMFS (Assistant Regional Administrator), has made a preliminary determination that the subject exempted fishing permit (EFP) application submitted by the Gulf of Maine Research Institute (GMRI), which would exempt participating vessels from Scallop gear restrictions, possession restrictions, Great South Channel (GSC) Southern New England (SNE)/Georges Bank (GB) Yellowtail Flounder Peak Spawning Closure restrictions, and GSC Cape Cod (CC)/Gulf of Maine (GOM) Yellowtail Flounder Peak Spawning Closure restrictions, should be issued for public comment. The Assistant Regional Administrator has also made a preliminary determination that the activities authorized under the EFP would be consistent with the goals and objectives of the Atlantic Sea Scallop Fishery Management Plan (FMP), the Northeast Multispecies FMP, and other Northeast Regional FMPs. However, further review and consultation may be necessary before a final determination is made.

DATES: Comments must be received on or before February 17, 2009.

ADDRESSES: Comments may be submitted by e-mail. The mailbox address for providing e-mail comments is scallop.efp.gmri@noaa.gov. Include in the subject line of the e-mail comment the following document identifier: “Comments on twine-top EFP.” Written comments may also be mailed to Patricia A. Kurkul, Regional Administrator, NMFS, Northeast Regional Office, 55 Great Republic Drive, Gloucester, MA 01930. Mark the outside of the envelope, “Comments on twine-top EFP.” Comments may also be sent via facsimile (fax) to (978) 281-9135.

FOR FURTHER INFORMATION CONTACT: Cheryl McGarrity, Fishery Management Specialist, phone: 978-281-9174, fax: 978-281-9135.

SUPPLEMENTARY INFORMATION: In response to the 2008 Atlantic Sea Scallop Research Set Aside (RSA) Program request for proposals, NMFS received a proposal from GMRI entitled, “An evaluation of hanging ratio and mesh orientation of twine-tops on selectivity and bycatch in the general category scallop dredge fishery in scallop limited access areas.” The grant was approved by NOAA Grants on July 27, 2008, as NOAA Award No. NA08NMF4540667. GMRI proposes to determine if changes to the dredge twine-top configuration on a 10.5-ft (3.2 m) general category scallop dredge will affect species selectivity and reduce finfish bycatch.

Comparisons of catches will be made between panels with twine-top configurations of 2:1 hanging ratio, 3:1 hanging ratio with meshes elongated in the fore/aft direction, and 3:1 hanging ratio with meshes elongated laterally (perpendicular to the fore/aft direction). Research is to be conducted within the Elephant Trunk Access Areas (March/April 2009) and the Great South Channel Scallop Dredge Exemption Area (GSCDEA) (May/June 2009). Three general category scallop vessels using New Bedford style scallop dredges will be given a set of the three twine-top configurations, and will use one configuration per day for 12 days. It is expected that three tows per day will be completed, and vessels will spend 12 days in each of the two scallop access areas. The grant authorizes GMRI to land 14,400 lb (6,531.73 kg) of scallops each from the Elephant Trunk Access Area and GSCDEA (total of 28,800 lb (13,063.46 kg)), with the proceeds from landed scallops compensating participating vessel owners and defraying research costs. Vessels will stay within the daily landing limit of 400 lb (181.4 kg).

This EFP would exempt participating vessels from Scallop gear restrictions specified at 50 CFR 648.51(b)(2), possession restrictions found throughout part 648, Great South Channel (GSC) Southern New England (SNE)/Georges Bank (GB) Yellowtail Flounder Peak Spawning Closure restrictions at § 648.80(a)(18)(ii)(C), and GSC Cape Cod (CC)/Gulf of Maine (GOM) Yellowtail Flounder Peak Spawning Closure restrictions at § 648.80(a)(18)(ii)(D).

Regulations under the Magnuson-Stevens Fishery Conservation and Management Act require publication of this notification to provide interested parties the opportunity to comment on applications for proposed EFPs. The applicant may place requests for minor modifications and extensions to the EFP throughout the year. EFP modifications and extensions may be granted without further notice if they are deemed essential to facilitate completion of the proposed research and minimal so as not to change the scope or impact of the initially approved EFP request.

Authority: 16 U.S.C. 1801 et seq.

Dated: January 26, 2009.
Emily H. Menashes
Acting Director, Office of Sustainable Fisheries, National Marine Fisheries Service.

[FR Doc. E9-1999 Filed 1-29-09; 8:45 am]

BILLING CODE 3510-22-S